ENVIRONMENTAL PROTECTION AGENCY

[EPA-HQ-OPP-2009-0743; FRL-8805-2]

Product Cancellation Order for Certain Pesticide Registrations

AGENCY: Environmental Protection Agency (EPA).

ACTION: Notice.

SUMMARY: This notice announces EPA's order for the cancellations, voluntarily requested by the registrants and accepted by the Agency, of products containing the pesticides listed in Table 1, pursuant to section 6(f)(1) of the Federal Insecticide, Fungicide, and Rodenticide Act (FIFRA), as amended. This cancellation order follows a December 18, 2009 Federal Register Notice of Receipt of Requests from the registrants listed in Table 1 to voluntarily cancel these product registrations. These are not the last products containing these pesticides registered for use in the United States. In the December 18, 2009 Notice (74 FR 67211), EPA indicated that it would issue an order implementing the cancellations, unless the Agency received substantive comments within the 30-day comment period that would merit its further review of these requests, or unless the registrants withdrew their requests within this period. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective February 24, 2010.

FOR FURTHER INFORMATION CONTACT: Barbara Briscoe, Pesticide Re-evaluation Division (7508P), Office of Pesticide Programs, Environmental Protection Agency, 1200 Pennsylvania Ave., NW., Washington, DC 20460-0001; telephone number: (703) 308-8177; fax number: (703) 308-8090; e-mail address: briscoe.barbara@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2009-0743. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the cancellations, as requested by registrants, of 194 products registered under section 3 of FIFRA. These registrations are listed in sequence by registration number in Table 1.

Table 1.—Product Cancellations
EPA Registration Number | Product Name
000088-00024 | Hyponex Bug Spray For House Plants
000192-00183 | Ortho House Plant Insect Killer
000228-00195 | Riverdale DP-4 Amine
000228-00243 | Riverdale Cattle Spray
000228-00245 | Riverdale Insect Killer
000228-00246 | Riverdale Home And Garden Insect Spray
000228-00247 | Riverdale Pyrethrin Concentrate
000228-00250 | Riverdale Patio & Yard Outdoor Fogger
000239-02421 | Ortho Outdoor Insect Fogger
000239-02429 | Ortho Hi Power Indoor Insect Fogger
000239-02498 | Ortho Rose & Flower Insect Killer
000239-02527 | Ortho Pet Flea & Tick Spray
000239-02565 | Ortho Pet Shampoo
000239-02566 | Ortho Pet Flea & Tick Powder
000239-02567 | Flea-B-Gon Carpet Dust
000239-02624 | Hi Power Indoor Insect Fogger Formula V
000239-02676 | Flea-B-Gon Total Fogger
000239-02678 | Ortho Ant Killer Spray
000478-00126 | Real Kill Automatic Indoor Fogger II
000499-00339 | Whitmire Wasp And Hornet Spray
000499-00352 | Wasp & Hornet Spray #3
000499-00455 | ULD BP-3000-R Resmethrin Concentrate
000538-00177 | Scotts Houseplant Insecticide
000538-00243 | Yard & Garden Insect Control
000538-00244 | Next Generation Crawling Insect Control
000538-00245 | Next Generation Yard & Garden Concentrate Insect Control
000572-00316 | Rockland Mill-Mist “S”
000769-00317 | Superior Oil 70
000769-00682 | SMCP SBP- 1382 Insecticide Spray 0.10%
000769-00683 | SMCP SBP-1382 ® Insecticide Spray 0.05
000769-00684 | SMCP SBP-1382 ® Insecticide Spray 0.25
000769-00701 | SMCP SBP-1382 Liquid Spray 0.25%
000769-00702 | 24.3% SBP-1382-2 E.C.
000769-00703 | 40% SBP-1382 Mosquito Adulticide ULV Oil Base Concentrate
000769-00704 | SMCP SBP-1382 ULV Insecticide
000769-00710 | SMCP Household Insect Spray
000769-00805 | Superior Point Two Fly Spray
000769-00870 | Greenhouse & Plantscape EC2 Resmethrin Insect Spray
000769-00877 | Platt Whitefly Spray For Indoor Plants And Outdoor Ornamentals
000769-00882 | Resmethrin Mosquito Concentrate 40
000769-00884 | Pratt Resmethrin 3 Insect Spray
000769-00885 | Pratt Wasp & Yellow Jacket Spray
000769-00893 | Pratt Plant Spray
000769-00900 | House & Yard Insect Spray
000769-00938 | Warner Enterprises Wasp & Hornet III
000769-00939 | Warner Enterprises Ornamental Insecticide Concentrate I
000829-00075 | SA 50 25% Malathion Wettable Spray Concentrate
001021-00056 | Pyrocide Intermediate 54
001021-00230 | Pyrocide Intermediate 57
001021-00838 | Clearmol Concentrate 6643
001021-00988 | Pyrocide Intermediate 6878
001021-01091 | Evergreen Emulsifiable 60-6
001021-01095 | Pyrocide Intermediate 6982
001021-01126 | D-Trans Intermediate 1860
001021-01517 | Pyrocide Concentrate 7352
001021-01627 | Evercide Intermediate 2531
001021-01646 | Piperonyl Butoxide OS
001021-01654 | ETOC Concentrate 2634
001021-01679 | Multicide Pressurized Roach Spray 27341
001021-01681 | Multicide Total Release Aerosol 2782
001021-01685 | Multicide Total Release Aerosol 27372
001021-01695 | Evercide Concentrate 2654
001021-01696 | Evercide Carpet And Surface Spray 2655
001021-01697 | Evercide Roach And Ant Spray 2622
001021-01705 | Pyrocide Home & Garden Spray
001021-01786 | Pyrocide Indoor/Outdoor Insect Killer 73525
001021-01792 | Evercide Carpet And Surface Spray 28011
001021-01822 | Turbocide Pest Control System With Pyrocide 1-5
002217-00068 | Pyrenone Multi-Purpose Knockout Spray
002217-00246 | Pyrenone Dairy Cattle And Stock Spray
002217-00476 | Horse Spray Ready To Use
002217-00497 | Gordon's Institutional Mist Spray
002217-00520 | Gordon's Malathion Contains 5 Lbs Malathion Per Gallon
002217-00523 | Gordon's Institutional Area Spray
002217-00578 | Pyrenone Multi-Purpose Knockout Spray
002217-00582 | Gordon's Industrial Emulsifiable Concentrate Stable (1)
002217-00583 | Gordon's Industrial Emulsifiable Concentrate Stable(2)
002217-00584 | Gordon’s Industrial Spray
002596-00137 | Hartz One Spot Repellent For Dogs And Puppies
002596-00146 | Hartz Ref. 101
002724-00507 | Speer Home & Garden Insect Spray With 25% SPB-1382
002724-00509 | Speer Insect Killer With .25% SBP-1382
002724-00510 | Speer Indoor-Outdoor Insect Spray With 35& SBP-1382
002724-00515 | Speer Yard & Patio Fogger
002724-00516 | Speer Flea Spray For Dogs & Cats
002724-00520 | Speer Food Plant Pressurized Insect Spray
002724-00524 | Speer Cedar Scented Moth Proofer
002724-00525 | Speer Aqueous Pressurized Spray Professional Strength
002724-00526 | Speer House & Garden Insect Spray
002724-00528 | Speer Aqueous Pressurized Spray
002724-00534 | Speer 2% Transparent Emulsion Concentrate
002724-00535 | Speer 0.35% Transparent Emulsion Spray
002724-00546 | Speer Wasp & Hornet Killer
002724-00695 | SBP/PY/PB Water-Based Ready-To-Use Liquid Spray
002935-00418 | Metaldehyde 4 Bait
003468-00009 | Supreme Oil Insecticide
004822-00122 | Johnson Yardmaster Foam Insect Killer
004822-00136 | Raid Formula II Insect Killer
004822-00139 | Raid Household Flying Insect Killer I
004822-00140 | Raid Formula IV Flying Insect Killer
004822-00141 | Raid Flying Insect Killer Formula III
004822-00162 | Raid Household Flying Insect Killer Formula 2
004822-00163 | Raid House And Garden Bug Killer All Seasons Formula
004822-00165 | Raid House And Garden Bug Killer V
004822-00181 | Raid House And Garden Bug Killer Formula 8
004822-00183 | Raid Formula 5249 Multi-Purpose Bug Killer
004822-00186 | Raid Formula D39 Multi-Purpose Bug Killer
004822-00187 | Johnson Wax Raid Liquid Flying Insect Killer
004822-00188 | Raid Liquid Flying Insect Killer I
004822-00214 | Raid Gypsy Moth And Japanese Beetle Killer
004822-00286 | Raid Formula 6 Flying Insect Killer
004822-00287 | Raid Flying Insect Killer Formula 8
004822-00288 | Raid Flying Insect Killer Formula 7
004822-00304 | Raid Flying Insect Killer Formula 10
004822-00363 | Piperonyl Butoxide Technical For Manufacturing Purposes Only
005178-00009 | Fish Mosquito Coils
005481-00035 | Pyrenone Fly Spray
005481-00041 | DDVP 1 Spray Insecticide Concentrate
005481-00064 | Pyrethrin 101 Concentrate
005481-00201 | D 80% Fogging Concentrate
005481-00202 | DDVP 50% Fogging Concentrate
005481-00203 | DDVP 5 TM Fogging Concentrate
005481-00207 | DDVP 15 Fogging Insect Control
005481-00208 | DDVP 15% Spray Concentrate
005481-00340 | Alco Bug Spray Pressurized
005887-00037 | Black Leaf Dormant Spray
005887-00101 | Black Leaf Yard & Patio Fogger
005887-00113 | Roach & Ant Pressurized Spray
005887-00114 | Black Leaf House & Garden Pressurized Spray
005887-00115 | Black Leaf Fly & Mosquito Pressurized Spray
005887-00117 | Black Leaf Cockroach & Ant Killer
005887-00119 | Black Leaf Wasp & Hornet Pressurized Spray
005887-00122 | Black Leaf White Fly Pressurized Spray
005887-00130 | Black Leaf Cockroach & Ant Killer
006218-00021 | Summit Mushroom House Fogging Insecticide
006218-00057 | Summit 5% DDVP
008329-00011 | Malathion E-5
008329-00014 | Clarke ULV Mosquitocide 731
008329-00028 | Pyrethrins 3610-MO
008329-00029 | ULV Mosquitocide 731 Plus
008329-00038 | Biomist 4 + 20 Spray
008329-00041 | Biomist 12 + 60 ULV
008329-00052 | Flak 10-10
008329-00053 | Flak 50-50
008329-00054 | Oblique
008329-00055 | Oblique III
008329-00063 | Biomist 2+2 ULV
008378-00059 | Shaw’s Permethrin 50 Lawn Insect Granules
008660-00054 | Fogging Concentrate Pyrenone* - Type
008660-00058 | Pyrenone 20 New
008660-00077 | Patterson's Greenup Organic Bug Dust
008660-00084 | Vertagreen Indoor Plant Spray
008660-00119 | Vertagreen Rose & Flower Insect Killer
008845-00057 | Hot Shot Improved Fly And Mosquito Insect-Killer Formula II 5
008845-00103 | Rid-A-Flea Shampoo
008845-00122 | Hot Shot Roach And Ant Killer - Formula PRWB-1
008845-00123 | Hot Shot Fogger V
009086-00008 | Revenge Farm And Home Fly Bomb Insect Fogger
010900-00063 | 876 Institutional Insecticide
019713-00302 | Green Devil Wettable Powder
019713-00359 | Best 4 Servis Brand 25% Malathion Wettable Powder
032970-00006 | Pactor-Fume Up And ATEM Water Based Insecticide
034704-00859 | Takedown 50 WP Cotton Defoliant
039609-00001 | Schultz Houseplants & Gardens Insect Spray
042697-00033 | Safer Soap And Pyrethrum Ready-To-Use
046515-00008 | Super K-Gro Tomato & Vegetable Insect Spray
046515-00009 | Super K-Gro Rose & Floral Insect Killer
046515-00020 | Super K-Gro Pet, Flea And Tick Spray
046515-00023 | Super K-Gro Whitefly And Mealybug Insect Killer
046515-00027 | Super K-Gro House Plant Insect Killer
046515-00029 | Super K-Gro Whitefly & Mealbug Killer Spray
046515-00038 | K-Rid Roach And Flea Fogger
046515-00039 | K-Ant And Roach Killer
046515-00047 | Flying Insect Killer 3
046515-00049 | House & Garden Bug Killer
046515-00052 | Roach & Flea Fogger
047000-00137 | Selco Vapona Insecticide Fogging Solution
049585-00011 | Super K-Gro Pyrenone Garden Dust
050932-00005 | Concern Multi-Purpose Insect Killer Ready To Use
059144-00001 | Malathion 50% Insect Spray
070506-00197 | Cuprofix MZ Disperss
070627-00042 | Johnson Wax Professional Total Release Fogger
070627-00043 | Flea Killer IGR And Adulticide
070627-00052 | Raid Commercial Insect Killer
072155-00064 | Tetraperm (0.15-0.15-0.75) Yard And Patio Fogger
075395-00001 | SK-Enspray 99
075395-00002 | SK-Enspray N
075402-00002 | Hilo Premises Spray
075402-00003 | Aloe Care Flea & Tick Shampoo
083399-00005 | SVP1
CA 990026 | Temik Brand 15G Aldicarb Pesticide
CO-990012 | Banvel Herbicide-For Weed Control In Millet
CO-990013 | Banvel Herbicide Aerial Applications
CO-990014 | Banvel Herbicide, Preharvest Applications In Wheat

Table 2.—Registrants of Cancelled Products
EPA Company Number | Company Name and Address
000088 | Hyponex Corp. 14111 Scottslawn Road Marysville, Oh 43041
000192 | Value Gardens Supply, LLC P.O. Box 585 Saint Joseph, MO 64502
000228 | Nufarm Americas, Inc. 150 Harvester Dr., Suite 200 Burr Ridge, Il 60527
000239 | The Scotts Group D/B/A/ The Ortho Group P.O. Box 190 Marysville, Oh 43040
000478 | Realex P.O. Box 142642 St Louis, MO 63114
000499 | BASF Corporation 3568 Tree Ct Industrial Blvd St Louis, MO 63114
000538 | The Scotts Company 14111 Scottslawn Road Marysville, OH 43041
000572 | Value Garden Supply 9100 W. Bloomington Freeway, Suite 113 Bloomington, MD 55431
000769 | Value Garden Supply P.O. Box 585 Saint Joseph, MO 64502
000829 | Southern Agricultural Insecticides, Inc. P.O. Box 218 Palmetto, FL 34220
001021 | McLaughlin Gormley King Co. 8810 Tenth Avenue North Minneapolis, MN 55427
002217 | PBI Gordon Corp 1217 West 12th Street P.O. Box 14090 Kansas City, MO 64101
002596 | Hartz Mountain Corp. 400 Plaza Drive Secaucus, NJ 07094
002724 | Wellmark Mountain Corp 1501 E. Woodfield Road, Suite 200 West Schaumburg, Il 60173
002935 | Wilbur Ellis Co. P.O Box 1286 Fresno, CA 93715
003468 | Schall Chemical Supply, L.L.C. 120 N. Broadway Monte Vista, CO 81144
004822 | S.C. Johnson & Son, Inc. 1525 Howe Street Racine, WI 53403
005178 | Blood Protection Co., Ltd Paul A. Keane & Associates P.O. Box 65436 Tucson, AZ 85728
005481 | Amvac Chemical Corp. 4695 Macarthur Court Suite 1250 Newport Beach, CA 92660
005887 | Value Garden Supply 9100 W. Bloomington, Freeway Suite 113 Bloomington, MN 55431
006218 | Summit Chem. Co. Summit Responsible Solutions 235 South Kresson St. Baltimore, MD 21224
008329 | Clark Mosquito Control Products, Inc. P.O. Box 72197 Roselle, Il 60172
008378 | Knox Fertilizer Company P.O. Box 248 Knox, IN 46534
008660 | United Industries, Corp. D/B/A Sylorr Plant Corp. P.O. Box 142642 St. Louis, MO 31140
008845 | Spectrum Group, Div Of United Industries Corp. P.O. Box 142642 St. Louis, MO 31140
009086 | Roxide International, Inc. 5927 Paint Bank Road New Castle, VA 24127
010900 | Sherman Williams 101 Prospect Ave. Cleveland, OH 44115
019713 | Drexel Chemical Co. 1700 Channel Ave. P.O. Box 13327 Memphis, TN 38113
032970 | American Cleaning Co. 39-30 Review Ave. Long Island City, NY 11101
034704 | Loveland Products, Inc. 7251 W. 4th St. P.O. Box 1286 Greeley, CO 80632-1286
039609 | Schultz Co. 13260 Corp. Exchange Dr. P.O. Box 4406 Bridgeton, MO 63044
042697 | Safer, Inc. 69 North Locust St. P.O. Box 327 Lititz, PA17543
046515 | Celex, Div. Of United Industries, Corp. P.O. Box 14642 St. Louis, MO 63114
047000 | Chem-Tech, Ltd 4515 Fleur Dr. #303 Des Moines, LA 50321
049585 | Alljack, Div. Of United Industries, Corp. P.O. Box 14642 St. Louis, MO 63114
050932 | Woodstream Corp. 69 North Locust St. P.O. Box 327 Lititz, PA 17543
59144 | RegWest Company 30856 Rocky Road Greeley, CO 80631-9375
070506 | United Phosphorus 630 Freedom Business Center, Suite 402 King of Prussia, PA 19402
070627 | Johnson Diversey, Inc. 8310 16th St. P.O. Box 902 Sturtevant, WI 53177
072155 | Bayer Advanced A Business Unit of Bayer Cropscience, LP. 2 T.W.Alexander Dr. P.O. Box 12014 Research Triangle Park, NC 27709
075395 | SK E&P Co. 1300 Post Oak Blvd, Suite 450 Houston, TX 77056
075402 | Boss Pet Products, Inc. 1645 Rockside Rd., Suite 200 Maple Heights, OH 44147
083399 | Summit Vetpharm, LLC 301 Route 17 North Rutherford, NJ 07070
CA 990026 | California Pecan Growers Association P. O. Box 1142 Visalia, CA 93279
CO-990012 | State of Colorado 700 Kipling St., Suite 4000 Lakewood, CO 80215
CO-990013 | State of Colorado 700 Kipling St., Suite 4000 Lakewood, CO 80215
CO-990014 | State of Colorado 700 Kipling St., Suite 4000 Lakewood, CO 80215

III. Summary of Public Comments Received and Agency Response to Comments

During the public comment period provided, EPA received no comments in response to the December 18, 2009 Federal Register notice announcing the Agency's receipt of the requests for voluntary cancellations of products listed in Table 1.

IV. Cancellation Order

Pursuant to FIFRA section 6(f), EPA hereby approves the requested cancellations of registrations identified in Table 1. Accordingly, the Agency orders that the product registrations identified in Table 1 are hereby canceled. Any distribution, sale, or use of existing stocks of the products identified in Table 1 in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

EPA’s existing stocks policy published in the Federal Register of June 26, 1991 (56 FR 29362) (FRL-3846-4) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Existing stocks are those stocks of registered pesticide products which are currently in the United States and which were packaged, labeled, and released for shipment prior to the effective date of the cancellation action. The effective date of this cancellation is February 24, 2010. The cancellation order that is the subject of this notice includes the following existing stock provisions:

The registrant may sell and distribute existing stocks of product(s) listed in Table 1 until February 24, 2010. Persons other than the registrant may sell and distribute existing stocks of product(s) listed in Table 1 until exhausted. Use of the products listed in Table 1 may continue until existing stocks are exhausted, provided that such use is consistent with the terms of the previously approved labeling on, or that accompanied, the canceled product(s).

List of Subjects

Environmental protection, Pesticides and pests.

Dated: February 8, 2010.
Richard P. Keigwin, Jr.,
Director, Pesticide Re-evaluation Division, Office of Pesticide Programs.

[FR Doc. 2010-3537 Filed 2-23-10; 8:45 am]

BILLING CODE 6560-50-S